DEPARTMENT OF AGRICULTURE

Forest Service

Humboldt-Toiyabe National Forest; Mountain City Ranger District, Big Springs Exploration Drilling Project

AGENCY: Forest Service, USDA.

ACTION: Notice of Intent to Prepare an Environmental Impact Statement.

SUMMARY: Gateway Gold Corporation has submitted a Plan of Operations to explore for, locate, and delineate precious metals on National Forest System lands within the Big Springs Mine area. In response to that proposed plan of operations, the Mountain City Ranger District of the Humboldt-Toiyabe National Forest will prepare an Environmental Impact Statement for the Big Springs Exploration Drilling Project. This proposal is for the drilling on up to 1000 drill sites over a five year period on National Forest System (NFS) lands. The Project Area is located in Elko County, Nevada. Analysis for this project was initiated in 2005 with the preparation of an Environmental Assessment. In late October 2006, two lakes that had formed in existing mine pits (pit lakes) and the surrounding aquifer began draining. The pit lakes are now dry and the aquifer level has dropped about 150 feet below previous levels measured prior to October 2006. It is unknown where the aquifer is draining to or what the impacts, if any, would be to water quality and surface and groundwater resources. Based upon these changed environmental conditions of the hydrology at the site, the Forest Service has decided to document the analysis in an Environmental Impact Statement.

DATES: To be most effective, comments concerning the scope of the proposed analysis should be received within 30 days from the date that this Notice of Intent is published in the Federal Register. The draft EIS is expected to be completed in October 2007, and the final EIS is expected to be completed in March 2008.

ADDRESSES: Send written scoping comments to: District Ranger, Mountain City Ranger District, 2035 Last Chance Road, Elko, NV 89801.

Electronic scoping comments may be sent via e-mail to: comments-intermtn-humboldt-toiyabe-mtncity@fs.fed.us. Please put “Big Springs EIS” in the subject line of e-mail transmissions.

FOR FURTHER INFORMATION CONTACT: Will Wilson, Project Coordinator, Humboldt-Toiyabe National Forest, 2035 Last Chance Road, Elko, NV 89801, Telephone: 775-778-6132.

SUPPLEMENTARY INFORMATION:

Purpose of and Need for Action

The purpose and need for this proposed action is to authorize occupancy and use to Gateway Gold to explore for, locate, and delineate precious metals on National Forest System lands within the Big Springs Mine area. The statutory right of Gateway Gold to explore for and develop mineral resources on federally administered lands is recognized in the General Mining Law of 1872, and is consistent with the Humboldt National Forest Land and Resource Management Plan of 1986.

Proposed Action

The operator proposes construction of up to 1000 drill sites and associated temporary roads over a 5-year period. Approximately 200 drill sites would be constructed each year, with the drilling of up to three drill holes per drill site. Each drill site would occupy approximately 0.2 acres. Up to thirty miles of new exploration road (90 acres) would be constructed in total over five years. Each year, the operator would keep approximately 5 to 7 miles of the newly constructed road (15 to 21 acres) open to provide primary access to exploration targets within the area. In addition, the operator would annually construct 3 to 5 additional miles (9 to 15 acres) of drill site access road that would be slated for reclamation each year. Overland travel would be 2 miles in length; at least one-mile of overland access would be slated for reclamation at the end of each drilling season. Total acreage disturbed over five years would not exceed 220 acres. Seasonal reclamation would be completed each year, along with concurrent reclamation to stabilize and reduce the overall amount of disturbance. Final reclamation would require that all disturbances by the operator be recontoured to natural slope, and seeded with native weed-free seed species.

Other Possible Alternatives

Currently, two alternatives have been identified to be analyzed in detail with further analysis potentially generating other alternatives:

No Action Alternative: The plan of operations submitted by Gateway Gold would not be approved. Conditions at the project area would remain as they are now.

Proposed Action with Additional Mitigation and Monitoring: This alternative is identical to the Proposed Action Alternative with the exception of added mitigation and monitoring measures for protection of wildlife and water quality. These additional measures were identified during scoping, issue development, and identification of potential impacts during the initial analysis. These measures are in addition to the environmental protection measures already included in the Proposed Action Alternative and include Best Management Practices, Forest Service standard operating procedures for mineral exploration projects, and mitigation measures tailored specifically for this Project.

Responsible Official: The responsible official is: Forest Supervisor, Humboldt-Toiyabe National Forest, 1200 Franklin Way, Sparks, NV 89431.

Nature of Decision To Be Made: Based on the environmental analysis presented in the EIS, the Forest Supervisor will decide (1) Whether or not to approve actions as proposed or modified, or as described in an alternative; (2) what mitigation measures are needed; and (3) what monitoring is required.

Scoping Process

Scoping of the Proposed Action commenced in 2005 and is continuing at this time. Initial public input was invited through the mailing of a scoping letter on January 13, 2005. Letters initiating consultation were also sent to American Indian tribes. The Forest Service will again mail information to interested and/or affected parties. The project has been listed in the Humboldt-Toiyabe National Forest Schedule of Proposed Actions since April of 2005. In 2005 the Forest Service received scoping responses, including letters from the Nevada Division of Environmental Protection, Nevada Historic Preservation Office, Nevada Department of Wildlife and Western Watersheds Projects. Comments were also received from Elko County Commissioners and Elko County Roads Department. Relevant responses were used to synthesize and develop issues. There are currently no scoping meetings planned for the EIS.

Preliminary Issues

The following are the significant issues identified through the analysis conducted to date. We are asking you to help us further refine the existing issues, as well as identify other issues or concerns relevant to the Proposed Action.

Water Quality—Drilling and associated activities could result in (1) Cross contamination of aquifers by providing conduits; (2) impacts to existing engineered mine features (embankments); (3) interactions and effects to water quality; and (4) increased sedimentation and erosion from ground disturbing activities.

Water Quantity and Flows—Drilling through geologic structures can intercept aquifers and alter groundwater flow.

Wildlife—Exploration activities have the potential to disrupt seasonal use by a variety of wildlife species (mule deer, sage grouse, various raptors and other species) in and around the project area, and to affect quality and quantity of habitat for these species.

Special Status Species (Wildlife)—Proposed surface disturbance and human activity associated with exploration activities may cause short- and long-term adverse effects to habitats used by Northern goshawk, sage-grouse, neo-tropical migratory birds, pygmy rabbit, and several species of bats with potential to occur in the Project area.

Special Status Species (Aquatics and Fisheries)—Increased sediment from disturbance by the proposed exploration could adversely affect threatened Lahontan cutthroat trout and Columbia spotted frog (candidate species), which inhabit the North Fork Humboldt River.

Recreation—Exploration activities and effects including noise, increased traffic on the access road, and road maintenance could affect recreation opportunities and the quality of the recreational experience.

Livestock—Surface disturbance would alter the vegetation, which has the potential to change the carrying capacity within the pasture in both the short-term and long-term.

Vegetation—Surface disturbance may (1) Affect specific plant communities, such as aspen, riparian vegetation and sub-alpine fir; (2) promote the spread and establishment of noxious weeds, such as hoary cress and Canada thistle, and other non-native invasive species, and (3) affect sensitive plants).

Other issues that will also be addressed in the analysis include the potential impacts this project may have on the McAffee Peak Inventoried Roadless Area which is partly within the project area. As proposed a small amount of exploration activities would be within this roadless area. Approximately 12 drill sites and less than 1,000 feet to the drill road are located slightly within or on the northern boundary of the McAffee Peak Inventoried Roadless Area. The portion of the roadless area impacted is a small “finger” that was created through a mapping error in 1998/1999 when the latest inventory for roadless areas was adopted. This is the inventory that was made part of the 2001 Roadless Area Conservation Rule. This finger in question has reclaimed mining and exploration roads within its boundaries and lacks roadless characteristics. This type of activity fits within an exemption category for allowing road construction within the IRA tied to outstanding or existing valid rights. Because no portion of the project area within or adjacent to the McAffee IRA exhibits roadless characteristics, effects of the Proposed Action upon the McAffee IRA have not been identified as a significant issue.

Comment Requested

This NOI continues the scoping process which will guide the development of the Environmental Impact Statement. The public is invited to submit scoping comments, stating concerns and issues relevant to the proposed project. These comments will be used to help establish the scope of study and analysis for the EIS.

Early Notice of Importance of Public Participation in Subsequent Environmental Review

A draft EIS will be prepared for comment. The comment period on the draft EIS will be 45 days from the date that the Environmental Protection Agency (EPA) publishes the notice of availability (NOA) in the Federal Register.

The Forest Service believes that, at this early stage, it is important to give reviewers notice of several court rulings related to public participation in the environmental review process. First, reviewers of draft EISs must structure their participation in the environmental review of the proposal so that it is meaningful and alerts an agency to the reviewer's position and contentions [Vermont Yankee Nuclear Power Corp. v. NRDC, 435 U.S. 519, 553 (1978)]. Also, environmental objections that could have been raised at the draft EIS stage but that are not raised until after completion of the final EIS may be waived or dismissed by the courts [City of Angoon v. Hodel, 803 F.2d 1016, 1022 (9th Cir. 1986) and Wisconsin Heritages, Inc. v. Harris, 490 F. Supp. 1334, 1338 (e.D. Wis. 1980)]. Because of these court rulings, it is very important that those interested in this Proposed Action participate by the close of the 45 day comment period so that comments and objections are made available to the Forest Service at a time when it can consider them and respond to them in a meaningful manner within the final EIS.

To assist the Forest Service in identifying and considering issues and concerns regarding the Proposed Action, comments on the draft EIS should be as specific as possible. It is also helpful if the comments refer to specific pages, sections, or chapters of the draft document. Comments may also address the adequacy of the draft EIS or the merits of the alternatives formulated and discussed in the document. Reviewers may wish to refer to the Council on Environmental Quality (CEQ) Regulations for implementing the procedural provisions of the National Environmental Policy Act (NEPA) at 40 CFR 1503.3 in addressing these points.

Comments received, including the names and addresses of those who comment, will be considered part of the public record of this proposal and will be available for public inspection

(Authority: 40 CFR 1501.7 and 1508.22; Forest Service Handbook 1909.15, Section 21)

Dated: June 27, 2007.
Edward C. Monnig,
Forest Supervisor.

[FR Doc. 07-3307 Filed 7-6-07; 8:45 am]

BILLING CODE 3410-11-M